ENVIRONMENTAL PROTECTION AGENCY

[ER-FRL-9032-4]

Environmental Impact Statements; Notice of Availability

Responsible Agency: Office of Federal Activities, General Information (202) 564-7146 or http://www.epa.gov/nepa.

Weekly receipt of Environmental Impact Statements (EISs)

Filed 03/20/2017 Through 03/24/2017

Pursuant to 40 CFR 1506.9.

Notice:

Section 309(a) of the Clean Air Act requires that EPA make public its comments on EISs issued by other Federal agencies. EPA's comment letters on EISs are available at: http://www.epa.gov/compliance/nepa/eisdata.html.

EIS No. 20170046, Final, NSA, MD, East Campus Integration Program, Review Period Ends: 05/01/2017, Contact: Jeffrey Williams 301-688-2970.

EIS No. 20170047, Revised Draft, USACE, TX, Lower Bois d'Arc Creek Reservoir, Comment Period Ends: 05/15/2017, Contact: Andrew R. Commer 918-669-7400.

EIS No. 20170048, Draft Supplement, BOEM, MA, Cape Wind Energy Project, Comment Period Ends: 05/15/2017, Contact: Michelle Morin 703-787-1722.

EIS No. 20170049, Final, USFWS, CA, Measure M (M2) Natural Community Conservation Plan/Habitat Conservation Plan, Review Period Ends: 05/01/2017, Contact: Jonathan Snyder 760-431-9440.

EIS No. 20170050, Draft Supplement, DOS, DC, Foreign Missions Center at the Former Army Walter Reed Medical Center, Comment Period Ends: 05/18/2017, Contact: Geoffrey Hunt 202-647-7530.

EIS No. 20170051, Draft Supplement, BOEM, LA, Gulf of Mexico Outer Continental Shelf Lease Sale 2018, Comment Period Ends: 05/15/2017, Contact: Greg Kozlowski 504-736-2512.

Dated: March 28, 2017.
Dawn Roberts,
Management Analyst, NEPA Compliance Division, Office of Federal Activities.

[FR Doc. 2017-06376 Filed 3-30-17; 8:45 am]

BILLING CODE 6560-50-P